DEPARTMENT OF AGRICULTURE

Rural Business-Cooperative Service

Inviting Rural Business Enterprise Grant Program Preapplications for Technical Assistance for Rural Transportation Systems

AGENCY: Rural Business-Cooperative Service, USDA.

ACTION: Notice.

SUMMARY: The Rural Business-Cooperative Service (RBS), an Agency within the Rural Development mission area, announces the availability of two individual grants: one single $496,750 grant from the passenger transportation funds appropriated for the RBS Rural Business Enterprise Grant (RBEG) program and another single $248,375 grant from the Federally Recognized Native American Tribes funds appropriated for RBS under the RBEG Program for fiscal year (FY) 2003. Each grant is to be competitively awarded to a qualified national organization. These grants are to provide technical assistance for rural transportation.

DATES: The deadline for receipt of preapplications in the Rural Development State Office is May 15, 2003. Preapplications received at a Rural Development State Office after that date would not be considered for FY 2003 funding.

ADDRESSES: For further information, entities wishing to apply for assistance should contact a Rural Development State Office to receive further information and copies of the pre-application package. A list of Rural Development State Offices follows:

District of Columbia

Rural Business-Cooperative Service, USDA

Specialty Lenders Division

1400 Independence Avenue, SW.

STOP 3225, Room 6867

Washington, DC 20250-3225

(202) 720-1400

Alabama

USDA Rural Development State Office

Sterling Center, Suite 601

4121 Carmichael Road

Montgomery, AL 36106-3683

(334) 279-3400

Alaska

USDA Rural Development State Office

800 West Evergreen, Suite 201

Palmer, AK 99645-6539

(907) 761-7705

Arizona

USDA Rural Development State Office

3003 North Central Avenue, Suite 900

Phoenix, AZ 85012-2906

(602) 280-8700

Arkansas

USDA Rural Development State Office

700 West Capitol Avenue, Room 3416

Little Rock, AR 72201-3225

(501) 301-3200

California

USDA Rural Development State Office

430 G Street, Agency 4169

Davis, CA 95616-4169

(530) 792-5800

Colorado

USDA Rural Development State Office

655 Parfet Street, Room E-100

Lakewood, CO 80215

(720) 544-2903

Delaware-Maryland

USDA Rural Development State Office

P.O. Box 400

4607 South DuPont Highway

Camden, DE 19934-9998

(302) 697-4300

Florida/Virgin Islands

USDA Rural Development State Office

P.O. Box 147010

4440 NW. 25th Place

Gainesville, FL 32606

(352) 338-3402

Georgia

USDA Rural Development State Office

Stephens Federal Building

355 E. Hancock Avenue

Athens, GA 30601-2768

(706) 546-2162

Hawaii

USDA Rural Development State Office

Federal Building, Room 311

154 Waianuenue Avenue

Hilo, HI 96720

(808) 933-8380

Idaho

USDA Rural Development State Office

9173 West Barnes Dr., Suite A1

Boise, ID 83709

(208) 378-5600

Illinois

USDA Rural Development State Office

2118 West Park Court, Suite A

Champaign, IL 61821

(217) 403-6202

Indiana

USDA Rural Development State Office

5975 Lakeside Boulevard

Indianapolis, IN 46278

(317) 290-3100

Iowa

USDA Rural Development State Office

Federal Building, Room 873

210 Walnut Street

Des Moines, IA 50309-2196

(515) 284-4663

Kansas

USDA Rural Development State Office

Suite 100

1303 SW First American Place

Topeka, KS 66604

(785) 271-2700

Kentucky

USDA Rural Development State Office

771 Corporate Drive, Suite 200

Lexington, KY 40503

(859) 224-7300

Louisiana

USDA Rural Development State Office

3727 Government Street

Alexandria, LA 71302

(318) 473-7921

Maine

USDA Rural Development State Office

P. O. Box 405

967 Illinois Avenue, Suite 4

Bangor, ME 04402-0405

(207) 990-9106

Massachusetts/Rhode Island/Connecticut

USDA Rural Development State Office

451 West Street, Suite 2

Amherst, MA 01002-2999

(413) 253-4300

Michigan

USDA Rural Development State Office

3001 Coolidge Road, Suite 200

East Lansing, MI 48823

(517) 324-5100

Minnesota

USDA Rural Development State Office

410 AgriBank Building 375 Jackson Street

St. Paul, MN 55101-1853

(651) 602-7800

Mississippi

USDA Rural Development State Office

Federal Building, Suite 831

100 West Capitol Street

Jackson, MS 39269

(601) 965-4316

Missouri

USDA Rural Development State Office

601 Business Loop 70 West

Parkade Center, Suite 235

Columbia, MO 65203

(573) 876-0976

Montana

USDA Rural Development State Office

P. O. Box 771

900 Technology Blvd., Unit 1, Suite B

Bozeman, MT 59715

(406) 585-2580

Nebraska

USDA Rural Development State Office

Federal Building, Room 152

100 Centennial Mall North

Lincoln, NE 68508

(402) 437-5551

Nevada

USDA Rural Development State Office

1390 South Curry Street

Carson City, NV 89703-9910

(775) 887-1222

New Jersey

USDA Rural Development State Office

Tarnsfield Plaza, Suite 22

790 Woodlane Road

Mt. Holly, NJ 08060

(609) 265-3600

New Mexico

USDA Rural Development State Office

6200 Jefferson Street, NE.

Room 255

Albuquerque, NM 87109

(505) 761-4950

New York

USDA Rural Development State Office

The Galleries of Syracuse 441 South Salina Street, Suite 357

Syracuse, NY 13202-2541

(315) 477-6400

North Carolina

USDA Rural Development State Office

4405 Bland Road, Suite 260

Raleigh, NC 27609

(919) 873-2000

North Dakota

USDA Rural Development State Office

P. O. Box 1737

Federal Building, Room 208

220 East Rosser Avenue

Bismarck, ND 58502-1737

(701) 530-2037

Ohio

USDA Rural Development State Office

Federal Building, Room 507

200 North High Street

Columbus, OH 43215-2418

(614) 255-2500

Oklahoma

USDA Rural Development State Office

SDA, Suite 108

Stillwater, OK 74074-2654

(405) 742-1000

Oregon

USDA Rural Development State Office

101 SW Main Street, Suite 1410

Portland, OR 97204-3222

(503) 414-3300

Pennsylvania

USDA Rural Development State Office

One Credit Union Place, Suite 330

Harrisburg, PA 17110-2996

(717) 237-2299

Puerto Rico

USDA Rural Development State Office

654 Munoz Rivera Avenue

IBM Plaza, Suite 601

Hato Rey, Puerto Rico 00918-6106

(787) 766-5095

South Carolina

USDA Rural Development State Office

Strom Thurmond Federal Building 1835 Assembly Street, Room 1007

Columbia, SC 29201

(803) 765-5163

South Dakota

USDA Rural Development State Office

Federal Building, Room 210

200 4th Street, SW.

Huron, SD 57350

(605) 352-1100

Tennessee

USDA Rural Development State Office

3322 West End Avenue, Suite 300

Nashville, TN 37203-1084

(615) 783-1300

Texas

USDA Rural Development State Office

Federal Building, Suite 102

101 South Main Street

Temple, TX 76501

(254) 742-9700

Utah

USDA Rural Development State Office

Wallace F. Bennett Federal Building 125 South State Street, Room 4311

P. O. Box 11350

Salt Lake City, UT 84147-0350

(801) 524-4321

Vermont/New Hampshire

USDA Rural Development State Office

City Center, 3rd Floor

89 Main Street

Montpelier, VT 05602

(802) 828-6010

Virginia

USDA Rural Development State Office

Culpeper Building, Suite 238

1606 Santa Rosa Road

Richmond, VA 23229-5014

(804) 287-1550

Washington

USDA Rural Development State Office

1835 Black Lake Boulevard, SW.

Suite B

Olympia, WA 98512-5715

(360) 704-7740

West Virginia

USDA Rural Development State Office

Federal Building

75 High Street, Room 320

Morgantown, WV 26505-7500

(304) 284-4860

Wisconsin

USDA Rural Development State Office

4949 Kirschling Court

Stevens Point, WI 54481

(715) 345-7610

Wyoming

USDA Rural Development State Office

Federal Building, Room 1005

100 East B Street

P. O. Box 820

Casper, WY 82602

(307) 261-6300

SUPPLEMENTARY INFORMATION: The passenger transportation portion of the RBEG program is authorized by section 310B(c)(2) of the Consolidated Farm and Rural Development Act (CONACT) (7 U.S.C. 1932(c)(2)). The RBEG program is administered on behalf of RBS at the State level by the Rural Development State Offices. The primary objective of the program is to improve the economic conditions of rural areas. Assistance provided to rural areas under this program may include on-site technical assistance to local and regional governments, public transit agencies, and related nonprofit and for-profit organizations in rural areas; the development of training materials; and the provision of necessary training assistance to local officials and agencies in rural areas.

Awards under the RBEG passenger transportation program are made on a competitive basis using specific selection criteria contained in 7 CFR part 1942, subpart G, and in accordance with section 310B(c)(2) of the CONACT. That subpart also contains the information required to be in the preapplication package. For the $248,375 grant, at least 75 percent of the benefits of the project must be received by members of Federally Recognized Tribes. The project that scores the greatest number of points based on the selection criteria and Administrator's points will be selected for each grant. Preapplications will be tentatively scored by the State Offices and submitted to the National Office for review, final scoring, and selection.

To be considered “national”, a qualified organization is required to provide evidence that it operates in multi-State areas. There is not a requirement to use the grant funds in a multi-State area. Under this notice, grants will be made to qualified, private, non-profit organizations for the provision of technical assistance and training to rural communities for the purpose of improving passenger transportation services or facilities. Public bodies are not eligible for passenger transportation RBEG grants.

The information collection requirements contained within this Notice have received approval by the Office of Management and Budget (OMB) under OMB Control Number 0570-0022 (7 CFR part 1942, subpart G).

Fiscal Year 2003 Preapplications Submission

Each preapplication received in a Rural Development State Office will be reviewed to determine if this preapplication is consistent with the eligible purposes contained in section 310B(c)(2) of the CONACT. Each selection priority criterion outlined in 7 CFR part 1942, subpart G, section 1942.305(b)(3), must be addressed in the preapplication. Failure to address any of the criteria will result in a zero-point score for that criterion and impact the overall evaluation of the preapplication. Copies of 7 CFR part 1942, subpart G, will be provided to any interested applicant making a request to a Rural Development State Office listed in this notice. All projects to receive technical assistance through these passenger transportation grant funds are to be identified when the preapplications are submitted to the Rural Development State Office. Multiple project preapplications must identify each individual project, indicate the amount of funding requested for each individual project, and address the criteria as stated above for each individual project. For multiple-project preapplications, the average of the individual project scores will be the score for that preapplication.

All eligible preapplications, along with tentative scoring sheets and the Rural Development State Director's recommendation, will be referred to the National Office no later than June 13, 2003, for final scoring and selection for award.

The National Office will score preapplications based on the grant selection criteria and weights contained in 7 CFR part 1942, subpart G and will select a grantee subject to the grantee's satisfactory submission of a formal application and related materials in the manner and time frame established by RBS in accordance with 7 CFR part 1942, subpart G. It is anticipated that the grantees will be selected by July 31, 2003. All applicants will be notified by RBS of the Agency's decision on the awards.

Dated: April 3, 2003.
John Rosso,
Administrator, Rural Business-Cooperative Service.

[FR Doc. 03-8818 Filed 4-9-03; 8:45 am]

BILLING CODE 3410-XY-P